DEPARTMENT OF THE INTERIOR

National Park Service

[NPS-WASO-NAGPRA-NPS0025465; PPWOCRADN0-PCU00RP14.R50000]

Notice of Inventory Completion: New Jersey State Museum, Trenton, NJ

AGENCY: National Park Service, Interior.

ACTION: Notice.

SUMMARY: The New Jersey State Museum has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the New Jersey State Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the New Jersey State Museum at the address in this notice by July 18, 2018.

ADDRESSES: Dr. Gregory D. Lattanzi, Bureau of Archaeology & Ethnology, New Jersey State Museum, 205 West State Street, Trenton, NJ 08625, telephone (609) 984-9327, email gregory.lattanzi@sos.nj.gov.

SUPPLEMENTARY INFORMATION: Notice is here given in accordance with the Native American Graves Protection and Repatriation Act (NAGPRA), 25 U.S.C. 3003, of the completion of an inventory of human remains and associated funerary objects under the control of the New Jersey State Museum, Trenton, NJ. The human remains and associated funerary objects were removed from the Abbott Farm National Historic Landmark, Mercer County, NJ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the New Jersey State Museum professional staff in consultation with representatives of Delaware Nation, Oklahoma; Delaware Tribe of Indians; and Stockbridge Munsee Community, Wisconsin.

History and Description of the Remains

Human remains representing, at minimum, 39 individuals were removed from the Abbott Farm National Historic Landmark in Mercer County, NJ, by the Indian Site Survey, which performed archeological excavations for the New Jersey State Museum from 1936 to 1940. No known individuals were identified. The 4,751 associated funerary objects are 470 lithics, 3,277 pottery sherds, 1,000 rolled copper beads, three copper boatstones, and one copper concretion.

At an unknown date, human remains representing, at minimum, two individuals were removed from the Abbott Farm National Historic Landmark in Mercer County, NJ, by Mr. Norman Lister. No known individuals were identified. The 623 associated funerary objects are five drilled shell beads, 438 small rolled copper beads, one piece of charred material, 45 lithics and 134 potsherds.

Human remains representing, at minimum, three individuals were removed from the Abbott Farm National Historic Landmark in Mercer County, NJ, by Dr. Janet Pollak in 1966, during the Archaeological Society of New Jersey Unami Chapter excavations around the Watson House. No known individuals were identified. The six associated funerary objects are five pottery sherds and one prehistoric ceramic pipe.

At an unknown date, human remains representing, at minimum, one individual were removed from the Abbott Farm National Historic Landmark (Lalor Farm) in Mercer County, NJ, by Dr. John Wittekind and given to the New Jersey State Museum. No known individuals were identified. No associated funerary objects are present.

Human remains representing, at minimum, one individual were removed from the Abbott Farm National Historic Landmark in Mercer County, NJ, in 1985 by a Mr. Griswold who gave them to the New Jersey State Museum. No known individuals were identified. No associated funerary objects are present.

Determinations Made by the New Jersey State Museum

Officials of the New Jersey State Museum have determined that:

• Pursuant to 25 U.S.C. 3001(9), the human remains described in this notice represent the physical remains of 46 individuals of Native American ancestry.

• Pursuant to 25 U.S.C. 3001(3)(A), the 5,380 objects described in this notice are reasonably believed to have been placed with or near individual human remains at the time of death or later as part of the death rite or ceremony.

• Pursuant to 25 U.S.C. 3001(2), there is a relationship of shared group identity that can be reasonably traced between the Native American human remains and associated funerary objects and the Delaware Nation, Oklahoma; Delaware Tribe of Indians; and Stockbridge Munsee Community, Wisconsin.

Additional Requestors and Disposition

Lineal descendants or representatives of any Indian Tribe or Native Hawaiian organization not identified in this notice that wish to request transfer of control of these human remains and associated funerary objects should submit a written request with information in support of the request to Dr. Gregory D. Lattanzi, Bureau of Archaeology & Ethnology, New Jersey State Museum, 205 West State Street, Trenton, NJ 08625, telephone (609) 984-9327, email gregory.lattanzi@sos.nj.gov, by July 18, 2018. After that date, if no additional requestors have come forward, transfer of control of the human remains and associated funerary objects to the Delaware Nation, Oklahoma; Delaware Tribe of Indians; and Stockbridge Munsee Community, Wisconsin, may proceed.

The New Jersey State Museum is responsible for notifying the Delaware Nation, Oklahoma; Delaware Tribe of Indians; and Stockbridge Munsee Community, Wisconsin, that this notice has been published.

Dated: April 19, 2018.
Melanie O'Brien,
Manager, National NAGPRA Program.

[FR Doc. 2018-13033 Filed 6-15-18; 8:45 am]

BILLING CODE 4312-52-P